FEDERAL MARITIME COMMISSION

[Docket No. 15-02]

Combustion Store Limited v. UniGroup Worldwide—UTS; Notice of Filing of Complaint and Assignment

Notice is given that a complaint has been filed with the Federal Maritime Commission (Commission) by Combustion Store Limited, hereinafter “Complainant,” against UniGroup Worldwide-UTS, hereinafter “Respondent.” Complainant states it is a “firm engaged in the business of supplying airplane parts” with a principal place of business in England. Complainant alleges that Respondent is an ocean transportation intermediary (OTI) with its primary place of business in North Carolina.

Complainant alleges that Respondent has violated the Shipping Act, 46 U.S.C. 41102(c), which provides that an OTI “may not fail to establish, observe and enforce just and reasonable regulations and practices relating to or connected with receiving, handling, storing, or delivering property,” in connection with a shipment of two used aircraft engines. Complainant alleges that Respondent “failed to exercise due diligence in supervising the activities of its subcontracted service providers” to ensure shipment of the log books associated with the engines. Complainant alleges that “the engines are for all intents and purposes worthless without the log books.”

Complainant seeks reparations in the amount of $397,517, plus interest and attorneys fees “or such other sum as the Commission may determine to be proper as an award of reparations.”

The full text of the complaint can be found in the Commission's Electronic Reading Room at www.fmc.gov/15-02/.

This proceeding has been assigned to the Office of Administrative Law Judges. The initial decision of the presiding officer in this proceeding shall be issued by May 4, 2016, and the final decision of the Commission shall be issued by November 4, 2016.

Rachel E. Dickon,
Assistant Secretary.

[FR Doc. 2015-11130 Filed 5-7-15; 8:45 am]

BILLING CODE 6731-AA-P